DEPARTMENT OF VETERANS AFFAIRS

Homeless Providers Grant and Per Diem Program; Notice of Funding Availability

AGENCY: Veterans Health Administration, VA Homeless Providers Grant and Per Diem Program, Department of Veterans Affairs.

ACTION: Notice of Funding Availability (NOFA).

SUMMARY: The Department of Veterans Affairs (VA) is announcing the availability of 1-year renewal funding in fiscal year (FY) 2015 for the 21 currently operational FY 2014 VA Grant and Per Diem (GPD) Special Need Grant Recipients and their collaborative VA Special Need partners (as applicable) to make re-applications for assistance under the Special Need Grant Component of VA's Homeless Providers GPD Program. The focus of this NOFA is to encourage applicants to continue to deliver services to the homeless Special Need Veteran population as outlined in their current Special Need application. This NOFA contains information concerning the program, application process, and amount of funding available.

DATES: An original signed and dated request for re-application letter, on agency letterhead, for assistance under the VA's Homeless Providers GPD Program and associated documents, must be received by the GPD Program Office by 4:00 p.m. Eastern Time on Tuesday, July 28, 2015 (see application requirements below).

Applications may not be sent by facsimile. In the interest of fairness to all competing applicants, this deadline is firm as to date and time, and VA will treat any application that is received after the deadline as ineligible for consideration. Applicants should make early submission of their materials to avoid any risk of loss of eligibility as a result of unanticipated delays or other delivery-related problems.

ADDRESSES: An original signed, dated, completed, and collated grant re-application letter and all required associated documents must be submitted to the following address: VA Homeless Providers GPD Program Office, 10770 N. 46th Street, Suite C-200, Tampa, Florida 33617. Applications must be received by the application deadline. Applications must arrive as a complete package. Materials arriving separately will not be included in the application package for consideration and may result in the application being rejected or not funded.

FOR FURTHER INFORMATION CONTACT: Mr. Jeffery L. Quarles, Director, VA Homeless Providers GPD Program, Department of Veterans Affairs, 10770 N. 46th Street, Suite C-200, Tampa, FL 33617; (toll-free) 1-(877) 332-0334.

SUPPLEMENTARY INFORMATION:

Funding Opportunity Description

This NOFA announces the availability of FY 2015 funds to renew assistance provided under VA's Homeless Providers GPD Program for the 21 FY 2014 operational GPD Special Need recipients and their collaborative VA partners (as applicable). Eligible applicants may obtain grant assistance to cover additional operational costs that would not otherwise be incurred but for the fact that the recipient is providing supportive housing beds and services for the following special needs homeless Veteran populations:

(1) Women;

(2) Frail elderly;

(3) Terminally ill;

(4) Chronically mentally ill; or

(5) Individuals who have care of minor dependents.

Definitions of these populations are contained in 38 CFR 61.1 Definitions. Eligible applicants should review these definitions to ensure their proposed populations meet the specific requirements.

VA is pleased to issue this NOFA for the Homeless Providers GPD Program as a part of the effort to end homelessness among our Nation's Veterans. Funding applied for under this NOFA may be used for the provision of service and operational costs to facilitate the following for each targeted group:

Women

(1) Ensure transportation for women, especially for health care and educational needs; and

(2) Address safety and security issues including segregation from other program participants if deemed appropriate.

Frail Elderly

(1) Ensure the safety of the residents in the facility, including preventing harm and exploitation;

(2) Ensure opportunities to keep residents mentally and physically agile to the fullest extent through the incorporation of structured activities, physical activity, and plans for social engagement within the program and in the community;

(3) Provide opportunities for participants to address life transitional issues and separation and/or loss issues;

(4) Provide access to assistance devices such as walkers, grippers, or other devices necessary for optimal functioning;

(5) Ensure adequate supervision, including supervision of medication and monitoring of medication compliance; and

(6) Provide opportunities for participants either directly or through referral, for other services particularly relevant for the frail elderly, including services or programs addressing emotional, social, spiritual, and generative needs.

Terminally Ill

(1) Help participants address life-transition and life-end issues;

(2) Ensure that participants are afforded timely access to hospice services;

(3) Provide opportunities for participants to engage in “tasks of dying,” activities of “getting things in order” or other therapeutic actions that help resolve end-of-life issues and enable transition and closure;

(4) Ensure adequate supervision, including supervision of medication and monitoring of medication compliance; and

(5) Provide opportunities for participants, either directly or through referral, for other services that are particularly relevant for the terminally ill, such as legal counsel and pain management.

Chronically Mentally Ill

(1) Help participants join in and engage with the community;

(2) Facilitate reintegration with the community and provide services that may optimize reintegration, such as life-skills education, recreational activities, and follow-up case management;

(3) Ensure that participants have opportunities and services for re-establishing relationships with family;

(4) Ensure adequate supervision, including supervision of medication and monitoring of medication compliance; and

(5) Provide opportunities for participants, either directly or through referral, to obtain other services particularly relevant for a chronically mentally ill population, such as vocational development, benefits management, fiduciary or money, management services, medication compliance, and medication education.

Individuals Who Have Care of Minor Dependents

(1) Ensure transportation for individuals who have care of minor dependents, and their minor dependents, especially for health care and educational needs;

(2) Provide directly or offer referrals for adequate and safe child care;

(3) Ensure children's health care needs are met, especially age-appropriate wellness visits and immunizations; and

(4) Address safety and security issues, including segregation from other program participants if deemed appropriate.

Award Information

Overview: This NOFA announces the availability of one year renewal funding in FY 2015 for the 21 currently operational FY 2014 VA GPD Special Need Grant Recipients in conjunction with their collaborative VA Special Need partners (as applicable) to make re-applications for assistance under the Special Need Grant Component of VA's Homeless Providers GPD Program.

Funding Priorities: None

Allocation of Funds: Approximately $4 million is available for the current Special Need grant component of VA's Homeless Providers GPD Program. Funding will be for a period beginning on October 1, 2015, and ending on September 30, 2016. Special Need payment will be the lesser of:

1. One hundred percent of the daily cost of care estimated by the special need recipient for furnishing services to homeless Veterans with special need that the special need recipient certifies to be correct, minus any other sources of income; or

2. Two times the current VA State Home Program per diem rate for domiciliary care.

Special need awards are subject to: Funds availability; the recipient meeting the performance goals as stated in the grant application; statutory and regulatory requirements; and annual inspections.

Applicants should ensure their funding requests and operational costs are based on the 12-month period above and should be approximately in line with prior-year expenditures. Requests cannot exceed the amount obligated under the FY 2014 award.

Based on GPD funding availability, approximately $2.5 million is expected to be made available over the specified time (internally) for the current VA collaborative partners. The goal is, to the maximum extent possible, to ensure a continuation of Special Need services to homeless Veterans and their VA collaborative partners.

Funding Actions: Conditionally selected applicants may be asked to submit additional information under 38 CFR 61.15. Following receipt and confirmation that this information is accurate and in acceptable form, the applicant will execute an agreement with VA in accordance with 38 CFR 61.61. Upon signature by the Secretary or designated representative, final selection will be completed and the grant funds will be obligated.

Grant Award Period: Applicants that are selected will have a maximum award of one year beginning on October 1, 2015, and ending on September 30, 2016, to utilize the special need funding. Funds unexpended after the September 30, 2016, deadline will be de-obligated.

Eligibility Information

In order to be eligible, an applicant must be a current operational FY 2014 VA GPD Special Need Grant Recipient in conjunction with their collaborative VA Special Need partner, or a currently operational VA GPD Special Need Grant Recipient that does not involve a collaborative effort to make re-application for assistance under the Special Need Grant Component of VA's Homeless Providers GPD Program.

Note: If the applicant currently has a collaborative project and its VA partner no longer wishes to continue, its agency will be ineligible for an award under this NOFA.

Cost Sharing or Matching: None.

Application and Submission Information:

Address To Request Renewal Agreement for Grant Application: Grant Renewal Agreements may be obtained by contacting the National GPD Office at 1 (877) 332-0334. The additional documents that must also be included with the application are listed below in the Content and Form of Application section of this NOFA. Questions should be referred to the GPD Program Office at (toll-free) 1 (877) 332-0334.

Content and Form of Application: An application package is not needed for this NOFA. Applicants submitting a letter requesting re-application on their agency's letterhead agree to VA using their previously awarded FY 2009 Special Need application for scoring purposes. Applicants must contact the National GPD Program Office for a copy of the Grant Renewal Agreement, which must be signed, initialed, and dated by an agency official who is authorized to sign grant agreements on behalf of their organization. The signed Grant Renewal Agreement and the letter of intent must be submitted for reapplication of your Special Needs Grant.

Applicants should ensure that they include all required documents in their application and carefully follow the format described below. Submission of an incorrect, incomplete, or incorrectly formatted application package will result in the application being rejected at the beginning of the process.

Application Documentation Required:

• Letter from Applicant: Letter from the renewal applicant on agency-signed letterhead, stating the applicant agrees, as a condition of funding under this NOFA, that the FY 2009 application will be used, that they will provide the services as outlined in that application along with any VA-approved changes in scope, and that the applicant's FY 2009 required forms and certifications still apply for the period of this award.

• Grant Renewal Agreement: Document must be requested from the National GPD Program Office, prior to application, so it can be signed, initialed, and dated by the applicant agency official who is authorized to sign grant agreements for the applicant agency.

• Performance Goals: Documentation of the recipient meeting the performance goals as stated in the FY 2009 original grant application as evidenced by their last VA project inspection.

• Letter from VA Collaborative Partner (if applicable): If the FY 2009 Special Need grant was a collaborative grant, the renewal request must include an updated letter of commitment or an updated Memorandum of Agreement (MOA) from the VA collaborative partner, stating that VA will continue to meet its objectives or provide its duties as outlined in the original MOA in FY 2009. Note: If the applicant currently has a collaborative project and its VA partner no longer wishes to continue then the agency will be ineligible for application under this NOFA.

Applicants with questions regarding the funding from previous Special Need awards should contact the GPD Program Office prior to application for renewal funding. Selections will be made based on criteria described in the FY 2009 application and additional information as specified in this NOFA.

Applicants who are selected will be notified of any additional information needed to confirm or clarify information provided in the application. Applicants will then be notified of the deadline to submit such information. If an applicant is unable to meet any conditions for grant award within the specified time frame, VA reserves the right to not award funds and to use the funds available for other Special Need applicants.

Submission Dates and Times: An original signed and dated request for re-application letter on agency letterhead and associated required documents for assistance under the VA's Homeless Providers GPD Program must be received by the GPD Program Office, by 4:00 p.m. Eastern Standard Time on Tuesday, July 28, 2015; this includes applications submitted through Grants.gov.

In the interest of fairness to all competing applicants, this deadline is firm as to date and hour, and VA will treat any application that is received after the deadline as ineligible for consideration. Applicants should take this firm deadline into account and make early submission of their materials to avoid any risk of loss of eligibility as a result of unanticipated delays or other delivery-related problems.

For applications physically delivered (e.g., in person, or via United States Postal Service, FedEX, United Parcel Service, or any other type of courier), the VA GPD Program Office staff will accept the application and date stamp it immediately at the time of arrival. This is the date and time that will determine if the deadline is met for those types of delivery. DO NOT fax or email the application as it will be treated as ineligible for consideration.

Funding Restrictions: No part of a Special Need grant may be used for any purpose that would significantly change the scope of the specific GPD project for which a capital GPD was awarded. As a part of the review process, VA will review the original project and subsequent approved program changes of the previous FY 2009 Special Need applications to ensure significant scope changes have not occurred, displacing other homeless Veteran populations. VA will not allow any changes under this renewal NOFA.

Special Need funding may not be used for capital improvements or to purchase vans or real property. However, the leasing of vans or real property may be acceptable. Questions regarding acceptability should be directed to VA's National GPD Program Office at the number listed in Contact Information. Applicants may not receive Special Need funding to replace funds provided by any Federal, state or local Government agency or program to assist homeless persons.

A full copy of the regulations governing the GPD Program is available at the GPD Web site at http://www.va.gov/HOMELESS/GPD.asp.

Award Notice: Although subject to change, the GPD Program Office expects to announce grant awards during the late fourth quarter of FY 2015 (September). The initial announcement will be made via news release which will be posted on VA's National GPD Program Web site at www.va.gov/homeless/gpd.asp. Following the initial announcement, the GPD Office will mail notification letters to the grant recipients. Applicants who are not selected will be mailed a declination letter within two weeks of the initial announcement.

Administrative And National Policy: It is important to be aware that VA places great emphasis on responsibility and accountability. VA has procedures in place to monitor services provided to homeless Veterans and outcomes associated with the services provided in grant and per diem-funded programs. Applicants should be aware of the following:

Awardees will be required to support their request for payments with adequate fiscal documentation as to project income and expenses.

All awardees that are selected in response to this NOFA must meet the requirements of the current edition of the Life Safety Code of the National Fire Protection Association as it relates to their specific facility. Applicants should note that all facilities are to be protected throughout by an approved automatic sprinkler system unless a facility is specifically exempted under the Life Safety Code. Applicants should consider this when submitting their grant applications, as no additional funds will be made available for capital improvements under this NOFA.

Each program receiving Special Need funding will have a liaison appointed from a nearby VA medical facility to provide oversight and monitor services provided to homeless Veterans in the program.

Monitoring will include at a minimum, a quarterly review of each per diem program's progress toward meeting performance goals, including the applicant's internal goals and objectives in helping Veterans attain housing stability, adequate income support, and self-sufficiency as identified in each per diem program's original application. Monitoring will also include a review of the agency's income and expenses as they relate to this project to ensure payment is accurate.

Each funded program will participate in VA's national program monitoring and evaluation as these monitoring procedures will be used to determine successful accomplishment of these housing outcomes for each per diem-funded program.

FOR FURTHER INFORMATION CONTACT: Mr. Jeffery L. Quarles, Director, VA Homeless Providers Grant and Per Diem Program, Department of Veterans Affairs, 10770 N. 46th Street, Suite C-200, Tampa, FL 33617; (toll-free) 1 (877) 332-0334.

Signing Authority

The Secretary of Veterans Affairs, or designee, approved this document and authorized the undersigned to sign and submit the document to the Office of the Federal Register for publication electronically as an official document of the Department of Veterans Affairs. Robert L. Nabors II, Chief of Staff, approved this document on June 17, 2015 for publication.

Authority: Homeless Veterans Comprehensive Assistance Act of 2001,” Public Law 107-95, § 5, codified as amended by Public Law 112-154, at 38 U.S.C. 2011, 2012, 2013, 2061, and in regulation at 38 CFR 61.

Approved: June 18, 2015.
William F. Russo,
Acting Director, Office of Regulation Policy & Management, Office of General Counsel.

[FR Doc. 2015-15397 Filed 6-22-15; 8:45 am]

BILLING CODE 8320-01-P